DEPARTMENT OF HOMELAND SECURITY

Federal Emergency Management Agency

[Docket ID FEMA-2013-0046; OMB No. 1660-0029]

Agency Information Collection Activities: Proposed Collection; Comment Request; Approval and Coordination of Requirements To Use the NETC Extracurricular for Training Activities

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the collection of information required to request training space and/or housing for emergency preparedness training conducted at the Federal Emergency Management Agency's National Emergency Training Center (NETC).

DATES: Comments must be submitted on or before December 31, 2013.

ADDRESSES: To avoid duplicate submissions to the docket, please use only one of the following means to submit comments:

(1) Online. Submit comments at www.regulations.gov under Docket ID FEMA-2013-0046. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Merril Sollenberger, Events and Visitors Coordinator, FEMA, U.S. Fire Administration, (301) 447-1179 for additional information. You may contact the Records Management Division for copies of the proposed collection of information at facsimile number (202) 646-3347 or email address: FEMA-Information-Collections-Management@dhs.gov.

SUPPLEMENTARY INFORMATION: The Robert T. Stafford Disaster Relief and Emergency Assistance Act (Stafford Act), 42 U.S.C. 5121-5207, authorizes the President to establish a program of disaster preparedness that utilizes services of all appropriate agencies and includes training and exercises. Section 611 of the Stafford Act (42 U.S.C. 5196) directs that the Federal Emergency Management Agency (FEMA) may conduct training for the purpose of emergency preparedness. In response, FEMA established the National Emergency Training Center (NETC), located in Emmitsburg, Maryland. The NETC site has facilities and housing available for those participating in emergency preparedness training and a request for use of these areas must be made in advance of the need for such.

Collection of Information

Title: Approval and Coordination of Requirements to Use the NETC Extracurricular for Training Activities.

Type of Information Collection: Extension, without change, of a currently approved information collection.

OMB Number: 1660-0029.

FEMA Forms: FEMA Form 119-17-1, Request for Housing Accommodations; FEMA Form 119-17-2, Request for Use of NETC Facilities.

Abstract: FEMA established the National Emergency Training Center (NETC), located in Emmitsburg, Maryland to offer training for the purpose of emergency preparedness. The NETC site has facilities and housing available for those participating in emergency preparedness. When training space and/or housing is required for those attending the training, a request for use of these areas must be made in advance and this collection provides the mechanism for such requests to be made.

Affected Public: Not-for-profit institutions; Federal Government; State, Local or Tribal Government; individuals or households; and business or other for-profit.

Number of Respondents: 60.

Number of Responses: 120.

Estimated Total Annual Burden Hours: 12 hours.

Estimated Annualized Burden Hours and Costs
Type of respondent | Form name/form No. | Number of respondents | Number of responses per respondent | Total number of responses | Avg. burden per response (in hours) | Total annual burden (in hours) | Avg. hourly wage rate | Total annual respondent cost
Individuals or households; Business or other for-profit; Not-for-profit institutions; Farms; State, local or Tribal Government | Request for Housing Accommodations/FEMA Form 119-17-1 | 60 | 1 | 60 | *.1 | 6 | $30.81 | $185.00
Individuals or households; Business or other for-profit; Not-for-profit institutions; Farms; State, local or Tribal Government | Request for Use of NETC Facilities/FEMA Form 119-17-2 | 60 | 1 | 60 | *.1 | 6 | 30.81 | 185.00
Total |  | 60 |  | 120 |  | 12 |  | 370.00
• Note: The “Avg. Hourly Wage Rate” for each respondent includes a 1.4 multiplier to reflect a fully-loaded wage rate.
* (6 minutes).

Estimated Cost: The estimated annual cost to respondents for the hour burden is $370.00. There are no annual costs to respondents operations and maintenance costs for technical services. There are no annual start-up or capital costs. The cost to the Federal Government is $10,843.00.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: October 25, 2013.
Charlene D. Myrthil,
Director, Records Management Division, Mission Support Bureau, Federal Emergency Management Agency, Department of Homeland Security.

[FR Doc. 2013-26016 Filed 10-31-13; 8:45 am]

BILLING CODE 9111-45-P